DEPARTMENT OF ENERGY

Federal Energy Regulatory Commission

[Docket No. AD06-9-000]

RTO Border Utility Issues; Notice of Technical Conference on RTO Border Utility Issues

June 8, 2006.

Take notice that on July 10, 2006, staff of the Federal Energy Regulatory Commission will convene a technical conference on RTO border utility issues. The conference will be held at the Federal Energy Regulatory Commission, 888 First Street, NE., Washington, DC 20426. The conference will be open to the public. Commission staff will lead the conference and the Commissioners plan to attend.

In a recent Commission proceeding, parties raised the issue of an electric utility's ability to benefit from an RTO/ISO's regional markets while avoiding some or all of the costs attributable to membership in the RTO/ISO.¹ The Commission found that the issues raised “generic concerns with implications applicable to all RTOs and ISOs and to all market participants with whom they interact, whether directly or indirectly.” The Commission then announced its intention to establish a technical conference to hear from interested parties concerning this issue.

¹ Louisville Gas and Electric Company, et al., 114 FERC ¶ 61,282 (2006) at P 64-65.

Conference participants are asked to identify discrete concerns and contrasting views, establish which specific market services, reliability functions, and other features of RTO/ISO markets provide non-members with benefits for which they may not bear an appropriate share of the respective costs, or otherwise should not be entitled to, and propose solutions to identified problems. The Commission wishes to be informed about this issue across the country and invites representatives of all regions to participate.

Persons wishing to participate as panelists in the conference are asked to e-mail the following information to Commission staff by June 15, 2006: Name, organizational affiliation name and mailing address, title, voice and fax telephone numbers, e-mail address, brief bio, and a description of the proposed topic of presentation. Persons interested in attending the conference as a member of the audience are encouraged to e-mail their name and affiliation to facilitate security check in and to estimate meeting room needs. Both prospective panelists and audience members should e-mail their information to Kristine.Bailey@ferc.gov. In the body of the e-mail, please identify yourself as a potential panelist or audience member, and use “RTO Border Utility Conference” on the e-mail subject line. If you do not have access to e-mail, you may call Ms. Bailey at 202-502-6072.

An agenda will be issued prior to the conference. You may use the Commission's e-subscription service to be notified of future notices in this proceeding. Please visit http://www.ferc.gov/docs-filing/esubscription.asp.

A free webcast of this event will be available through http://www.ferc.gov. Anyone with Internet access who desires to view this event can do so by navigating to http://www.ferc.gov's Calendar of Events and locating this event in the Calendar. The event will contain a link to its webcast. The Capitol Connection provides technical support for the webcasts. It also offers access to open meetings via television in the DC area and via phone bridge for a fee. Visit http://www.CapitolConnection.org or contact Danelle Perkowski or David Reininger at 703-993-3100.

During the summer months, Commission employees adopt business casual dress, and the Commission encourages conference participants and attendees to do the same.

Commission conferences are accessible under section 508 of the Rehabilitation Act of 1973. For accessibility accommodations please send an e-mail to accessibility@ferc.gov or call toll free 866-208-3372 (voice) or 202-208-1659 (TTY), or send a Fax to 202-208-2106 with the required accommodations.

For further information on this conference, please contact: Udi Helman, Office of Energy Markets and Reliability, Federal Energy Regulatory Commission, 888 First Street, NE.,Washington, DC 20426. 202-502-8080. Udi.Helman@ferc.gov.

Magalie R. Salas,
Secretary.

[FR Doc. E6-9383 Filed 6-15-06; 8:45 am]

BILLING CODE 6717-01-P